DEPARTMENT OF VETERANS AFFAIRS

38 CFR Part 36

[Docket No. VA-2022-VBA-0013]

RIN 2900-AR42

Loan Guaranty: Servicer Tier Ranking Procedures

AGENCY: Department of Veterans Affairs.

ACTION: Advance notice of proposed rulemaking; withdrawal.

SUMMARY: The Department of Veterans Affairs (VA) is withdrawing a document published in the Federal Register on April 19, 2022, that requested public comment on revising VA's regulations governing the assignment of a performance-based tier ranking to each of the servicers that participate in VA's guaranteed home loan program. VA is withdrawing this advance notice of proposed rulemaking (ANPRM) because of ongoing assessments of agency needs, priorities, and objectives.

ADDRESSES: The docket for this withdrawn proposed rule is available at www.regulations.gov/docket/VA-2022-VBA-0013.

DATES: The ANPRM published at 87 FR 23152 on April 19, 2022, is withdrawn as of January 20, 2026.

FOR FURTHER INFORMATION CONTACT: Andrew Trevayne and Stephanie Li, Assistant Directors, Loan Guaranty Service, Veterans Benefits Administration, (202) 632-8862.

SUPPLEMENTARY INFORMATION: In a document published in the Federal Register on April 19, 2022, VA described delays associated with developing and implementing a tier ranking system (TRS) for servicers participating in the guaranteed home loan program, noted recent updates to the VA Loan Electronic Interface system, and requested public comment on potential issues, including time and cost, associated with implementing a TRS. 87 FR 23152. VA anticipated incorporating responses into a proposed rulemaking amending VA regulations at 38 Code of Federal Regulations 36.4318.

VA is withdrawing the ANPRM because of ongoing assessments of agency needs, priorities, and objectives. VA appreciates the public comments submitted and continues to consider the best means of addressing some or all of the issues covered in the ANPRM. If, in the future, VA decides it is appropriate to issue regulations on this topic, VA will do so through a new notice of proposed rulemaking, subject to the requirements of the Administrative Procedure Act, 5 U.S.C. 551, et seq.

Signing Authority

Douglas A. Collins, Secretary of Veterans Affairs, approved this document on December 12, 2025 and authorized the undersigned to sign and submit the document to the Office of the Federal Register for publication electronically as an official document of the Department of Veterans Affairs.

Nicole R. Cherry,
Alternate Federal Register Liaison Officer, Department of Veterans Affairs.

[FR Doc. 2026-01007 Filed 1-16-26; 8:45 am]

BILLING CODE 8320-01-P